DEPARTMENT OF ENERGY

Federal Energy Regulatory Commission

[Project No. 2299-088]

Turlock Irrigation District, Modesto Irrigation District; Notice of Application Accepted for Filing and Soliciting Comments, Motions To Intervene, and Protests

Take notice that the following hydroelectric application has been filed with the Commission and is available for public inspection:

a. Application Type: Non-Capacity Amendment of License.

b. Project No: 2299-088.

c. Date Filed: August 27, 2021.

d. Applicants: Turlock Irrigation District, Modesto Irrigation District.

e. Name of Project: Don Pedro Hydroelectric Project.

f. Location: The project is located on the Tuolumne River, in Tuolumne County, California.

g. Filed Pursuant to: Federal Power Act, 16 U.S.C. 791a-825r.

h. Applicant Contact: Michael Cooke, Turlock Irrigation District, P.O. Box 949, Turlock, California 95381, (209) 648-6819; and Chad Tienken, Modesto Irrigation District, P.O. Box 4060, Modesto, CA 95352, (209) 526-7459.

i. FERC Contact: Aneela Mousam, (202) 502-8357, aneela.mousam@ferc.gov.

j. Deadline for filing comments, motions to intervene, and protests is 30 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2299-088. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Turlock Irrigation District and Modesto Irrigation District (Districts) propose to replace three of the project's four turbine-generator units (i.e., Units 1, 2, and 3) with modernized units. The existing units have reached the end of their useful life, which has resulted in frequent mechanical breakdowns and unscheduled outages. The modernized units would increase the total authorized installed capacity of the project from 168 to 206 megawatts, and increase the project's maximum hydraulic capacity by 10.4 percent. The replacements would not require any modifications to the power tunnel, turbine bypass hollow jet valve, Unit 4, the outlets for Units 1, 2 and 3, or the Districts' “water first” operations. Unit replacements would not require any modifications to the flow requirements of the license and the New Don Pedro Dam flood control operations would not be affected.

l. Locations of the Application: The Commission provides all interested persons an opportunity to view and/or print the contents of this document via the internet through the Commission's website at http://www.ferc.gov/docs-filing/elibrary.asp. Enter the docket number excluding the last three digits in the docket number field to access the document. You may also register online at http://www.ferc.gov/docs-filing/esubscription.asp to be notified via email of new filings and issuances related to this or other pending projects. Agencies may obtain copies of the application directly from the applicant. At this time, the Commission has suspended access to the Commission's Public Reference Room due to the proclamation declaring a National Emergency concerning the Novel Coronavirus Disease (COVID-19), issued by the President on March 13, 2020. For assistance, contact the Federal Energy Regulatory Commission at FERCOnlineSupport@ferc.gov or call toll free, (866) 208-3676 or TTY, (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: September 22, 2021.
Kimberly D. Bose,
Secretary.

[FR Doc. 2021-21013 Filed 9-27-21; 8:45 am]

BILLING CODE 6717-01-P